ENVIRONMENTAL PROTECTION AGENCY

40 CFR Part 271

[FRL-7223-2]

RIN 2050-AE77

Notification of States Having Interim Authorization for the Amendments to the Corrective Action Management Unit Rule

AGENCY: Environmental Protection Agency.

ACTION: Notification of interim authorization.

SUMMARY: The Environmental Protection Agency (“EPA” or “the Agency”) is today notifying the public which States have submitted notifications to EPA under the requirements of 40 CFR 271.27 and thus have interim authorization for the Corrective Action Management Units (CAMU) amendments rule (January 22, 2002, 67 FR 2962). The CAMU amendments rule granted interim authorization to states that are authorized for the 1993 CAMU rule, and that submitted a notification letter to EPA by March 22, 2002.

FOR FURTHER INFORMATION CONTACT: For general information, contact the RCRA Hotline at (800) 424-9346 or TDD (hearing impaired) (800) 553-7672. In the Washington, DC metropolitan area, call (703) 412-9810 or TDD (703) 412-3323. For more detailed information on specific aspects of today's document, contact Wayne Roepe, U.S. Environmental Protection Agency (5303W), 1200 Pennsylvania Ave., NW, Washington, DC 20460, at (703) 308-8630, or e-mail roepe.wayne@epa.gov.

SUPPLEMENTARY INFORMATION: The January 22, 2002 Corrective Action Management Units (CAMU) amendments rule promulgated amendments to the regulations governing CAMUs. These amendments were promulgated under HSWA statutory authority and are generally more stringent than the previous CAMU regulations, published on February 16, 1993 (58 FR 8658). Thus, in states that are authorized for the 1993 CAMU rule, there was the potential for dual implementation of the CAMU regulations by EPA and states authorized for the 1993 rule if these states are not authorized for the amendments before they become effective.

To avoid this potential disruption in the implementation of the RCRA cleanup program caused by the regulatory authority for CAMUs being split between states and EPA, the CAMU amendments rule promulgated an authorization procedure called interim authorization-by-rule. The rule also granted interim authorization for those amendments to states that have final authorization for the 1993 CAMU rule and submitted a letter to EPA that they are willing and able to implement the amended CAMU regulations by March 22, 2002 (see 40 CFR 271.27(a)).

A total of 25 states authorized for the 1993 CAMU rule, submitted the notification letter to EPA by March 22, 2002 and met the criteria for interim authorization-by-rule. These states are: Alabama, California, Delaware, Florida, Georgia, Illinois, Indiana, Louisiana, Missouri, Nevada, New Mexico, New York, North Carolina, North Dakota, Oklahoma, Oregon, South Carolina, South Dakota, Tennessee, Texas, Utah, Vermont, Washington, Wisconsin, and Wyoming. Thus, these states have interim authorization for the CAMU amendments rule, effective April 22, 2002.

List of Subjects in 40 CFR Part 271

Environmental protection, Administrative practice and procedure, Hazardous waste, Intergovernmental relations, Reporting and recordkeeping requirements.

Dated: May 28, 2002.
Marianne Lamont Horinko,
Assistant Administrator, Office of Solid Waste and Emergency Response.

[FR Doc. 02-13980 Filed 6-3-02; 8:45 am]

BILLING CODE 6560-50-P